FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 002206-006.

Title: California Association of Port Authorities—Northwest Marine Terminal Association Terminal Discussion Agreement.

Parties: California Association of Port Authorities and Northwest Marine Terminal Association.

Filing Party: Patti A. Fulghum, Executive Officer; Northwest Marine Terminal Association; P.O. Box 5684; Bellevue, WA 98006.

Synopsis: The amendment reflects the addition of the Port of St. Helens, Oregon as a member to the Northwest Marine Terminal Association.

Agreement No.: 009335-007.

Title: Northwest Marine Terminal Association, Inc. Agreement.

Parties: Port of Anacortes; Port of Astoria; Port of Bellingham; Port of Coos Bay; Port of Everett; Port of Grays Harbor; Port of Kalama; Port of Longview; Port of Olympia; Port of Port Angeles; Port of Portland; Port of Seattle; Port of St. Helens; Port of Tacoma; and Port of Vancouver, USA.

Filing Party: Patti A. Fulghum; Executive Officer; Northwest Marine Terminal Association, Inc.; P.O. Box 5684; Bellevue, WA 98006.

Synopsis: The amendment reflects the addition of the Port of St. Helens, Oregon as member to the agreement.

Agreement No.: 012184-001.

Title: Crowley/Maersk Line Panama—U.S. Space Charter Agreement.

Parties: Crowley Latin America Services, LLC and A.P. Moller-Maersk A/S.

Filing Party: Wayne R. Rohde, Esq.; Cozen O'Connor; 1627 I Street NW., Suite 1100; Washington, DC 20006-4007.

Synopsis: The agreement adjusts the amount of space and the number of reefer plugs to be provided.

Agreement No.: 201162-010.

Title: NYSA-ILA Assessment Agreement.

Parties: International Longshoremen's Association and New York Shipping Association.

Filing Parties: Donato Caruso, Esq.; The Lambos Firm; 303 South Broadway, Suite 410; Tarrytown, NY 10591 and Andre Mazzola, Esq.; Marrinan & Mazzola Mardon, P.C.; 26 Broadway, 17th Floor; New York, NY 10004.

Synopsis: The amendment extends the agreement and reduces the assessment for all house containers within 260 miles, except in the Bermuda trade effective August 1, 2013.

Dated: August 2, 2013.
By Order of the Federal Maritime Commission.
Rachel E. Dickon,
Assistant Secretary.

[FR Doc. 2013-19081 Filed 8-6-13; 8:45 am]

BILLING CODE P